OFFICE OF PERSONNEL MANAGEMENT

5 CFR Part 532

RIN 3206-AN76

Prevailing Rate Systems; Special Appropriated Fund Wage Schedules for U.S. Insular Areas

AGENCY: Office of Personnel Management.

ACTION: Final rule.

SUMMARY: This rule amends the special appropriated fund wage schedules for U.S. insular areas in OPM regulations to designate the Department of Defense (DOD) as the sole lead agency for American Samoa, the Commonwealth of the Northern Mariana Islands, Guam, Midway, and the U.S. Virgin Islands.

DATES: Effective June 19, 2019.

FOR FURTHER INFORMATION CONTACT: Madeline Gonzalez, by telephone at (202) 606-2838 or by email at pay-leave-policy@opm.gov.

SUPPLEMENTARY INFORMATION: On February 13, 2019, the Office of Personnel Management (OPM) issued a proposed rule (84 FR 3729) that amends the special appropriated fund wage schedules for U.S. insular areas in § 532.259(a) of title 5, Code of Federal Regulations, to designate DOD as the sole lead agency for American Samoa, the Commonwealth of the Northern Mariana Islands, Guam, Midway, and the U.S. Virgin Islands. The Federal Prevailing Rate Advisory Committee (FPRAC), the national labor-management committee responsible for advising OPM on matters concerning the pay of Federal Wage System employees, recommended by consensus that we adopt these changes. The 30-day comment period ended on March 15, 2019, during which OPM received no comments.

This rule is not significant under Executive Order (E.O.) 12866, “Regulatory Planning and Review;” therefore, E.O. 13771, “Reducing Regulation and Controlling Regulatory Costs” does not apply.

List of Subjects in 5 CFR Part 532

Administrative practice and procedure, Freedom of information, Government employees, Reporting and recordkeeping requirements, Wages.

Office of Personnel Management.
Alexys Stanley,
Regulatory Affairs Analyst.

Accordingly, the Office of Personnel Management amends 5 CFR part 532 as follows:

PART 532—PREVAILING RATE SYSTEMS

1. The authority citation for part 532 continues to read as follows:

Authority: 5 U.S.C. 5343, 5346; § 532.707 also issued under 5 U.S.C. 552.

2. Section 532.259 is amended by revising paragraph (a) to read as follows:

§ 532.259 Special appropriated fund wage schedules for U.S. insular areas.

(a) The lead agency shall establish and issue special wage schedules for U.S. civil service wage employees in certain U.S. insular areas. The Department of Defense is the lead agency for American Samoa, the Commonwealth of the Northern Mariana Islands, Guam, Midway, and the U.S. Virgin Islands. These schedules shall provide rates of pay for nonsupervisory, leader, supervisory, and production facilitating employees.

* * * * *

[FR Doc. 2019-10335 Filed 5-17-19; 8:45 am]

BILLING CODE 6325-39-P